DEPARTMENT OF THE INTERIOR

Fish and Wildlife Service

[FWS-HQ-MB-2014-N099; 91100-3740-GRNT 7C]

Meeting Announcement: North American Wetlands Conservation Council

AGENCY: Fish and Wildlife Service, Interior.

ACTION: Notice of meeting.

SUMMARY: The North American Wetlands Conservation Council (Council) will meet to consider proposals for U.S. Standard Grants, one of the types of grants in the North American Wetlands Conservation Act (NAWCA) program, for recommendation to the Migratory Bird Conservation Commission (Commission). The grants proposals involve wetland acquisition, restoration, enhancement, and management projects. This meeting is open to the public, and interested persons may present oral or written statements.

DATES: The meeting is scheduled for June 26, 2014, from 8:30 a.m. to 4:30 p.m. If you are interested in attending or presenting information, contact the Council Coordinator (see FOR FURTHER INFORMATION CONTACT) by the appropriate deadline (see Public Input under SUPPLEMENTARY INFORMATION). The subsequent meeting at which the Commission will consider the Council's recommendations is tentatively scheduled for September, 2014.

ADDRESSES: The Council meeting will take place at Greenpoint Environmental Learning Center, 3010 Maple Street, Saginaw, MI 48602.

FOR FURTHER INFORMATION CONTACT: Cynthia Perry, Council Coordinator, by phone at 703-358-2432; by email at dbhc@fws.gov; or by U.S. mail at U.S. Fish and Wildlife Service, 4401 N. Fairfax Drive, MBSP 4075, Arlington, VA 22203.

SUPPLEMENTARY INFORMATION:

About the Council

In accordance with NAWCA (Pub. L. 101-233, 103 Stat. 1968, December 13, 1989, as amended), the State-private-Federal Council meets to consider wetland acquisition, restoration, enhancement, and management projects for recommendation to, and final funding approval by, the Commission.

U.S. Standard Grants Program

The U.S. Standard Grants Program is a competitive matching grants program that supports public-private partnerships carrying out projects in the United States that further the goals of NAWCA. These projects must involve long-term protection, restoration, and/or enhancement of wetlands and associated uplands habitats for the benefit of all wetlands-associated migratory birds. Grant requests may not exceed $1 million, and funding priority is given to grantees or partners new to the NAWCA Grants Program.

Project proposal due dates, application instructions, and eligibility requirements are available on the NAWCA Web site at http://www.fws.gov/birdhabitat/Grants/NAWCA.

Public Input

If you wish to: | You must contact the Council Coordinator (see FOR FURTHER INFORMATION CONTACT) no later than
(1) Attend the Council meeting | June 26, 2014.
(2) Submit written information or questions before the Council meeting for consideration during the meeting | June 9, 2014.

Submitting Written Information or Questions

Interested members of the public may submit relevant information or questions for the Council to consider during the public meeting. If you wish to submit a written statement, so that the information may be made available to the Council for their consideration prior to this meeting, you must contact the Council Coordinator by the date above. Written statements must be supplied to the Council Coordinator in both of the following formats: One hard copy with original signature, and one electronic copy via email (acceptable file formats are Adobe Acrobat PDF, MS Word, MS PowerPoint, or rich text file).

Giving an Oral Presentation

Individuals or groups requesting to make an oral presentation at the Council meeting will be limited to 2 minutes per speaker, with no more than a total of 30 minutes for all speakers. Interested parties should contact the Council Coordinator by the date above, in writing (preferably via email; see FOR FURTHER INFORMATION CONTACT), to be placed on the public speaker list for either of these meetings. Non-registered public speakers will not be considered during the Council meeting. Registered speakers who wish to expand upon their oral statements, or those who had wished to speak but could not be accommodated on the agenda, are invited to submit written statements to the Council within 30 days following the meeting.

Meeting Minutes

Summary minutes of the Council and meeting will be maintained by the Council Coordinator at the address under FOR FURTHER INFORMATION CONTACT. Council meeting minutes will be available by contacting the Council Coordinator within 30 days following the meeting. Personal copies may be purchased for the cost of duplication.

Jerome Ford,
Assistant Director, Migratory Birds.

[FR Doc. 2014-12782 Filed 6-2-14; 8:45 am]

BILLING CODE 4310-55-P